DEPARTMENT OF HEALTH AND HUMAN SERVICES

Food and Drug Administration

[Docket No. FDA-2012-N-1040]

Antiseptic Patient Preoperative Skin Preparation Products; Public Hearing; Request for Comments; Correction

AGENCY: Food and Drug Administration, HHS.

ACTION: Notice of public hearing; request for comments; correction.

SUMMARY: The Food and Drug Administration (FDA) is correcting a document that appeared in the Federal Register of November 21, 2012 (77 FR 69863). The document announced a public hearing entitled “Antiseptic Patient Preoperative Skin Preparation Products.” The document was published with an incorrect email address. This document corrects that error. Due to this error, FDA is extending the Requests for Oral Presentations registration date from November 27, 2012, to December 7, 2012.

FOR FURTHER INFORMATION CONTACT: Lee Lemley, Center for Drug Evaluation and Research, Food and Drug Administration, 10903 New Hampshire Ave. Silver Spring, MD 20903, 301-796-3441, Fax: 301-847-8753, email: CDER-AntisepticPreOpPublicMeeting@fda.hhs.gov.

SUPPLEMENTARY INFORMATION:

Correction

In the Federal Register of November 21, 2012, in FR Doc. 2012-28357, on page 69863, the following corrections are made:

1. On page 69863, in the second column, under Contact Person, the email address “AntisepticPreOpPublicMeeting@fda.hhs.gov” is corrected to read “CDER-AntisepticPreOpPublicMeeting@fda.hhs.gov”.

2. On page 69863, in the third column, under Requests for Oral Presentations, the date “November 27, 2012” is changed to read “December 7, 2012.

Dated: November 28, 2012.
Leslie Kux,
Assistant Commissioner for Policy.

[FR Doc. 2012-29166 Filed 12-3-12; 8:45 am]

BILLING CODE 4160-01-P